DEPARTMENT OF VETERANS AFFAIRS

Joint Biomedical Laboratory Research and Development and Clinical Science Research and Development Services Scientific Merit Review Board; Amended Notice of Meeting

Notice is hereby given of a change in the meeting of the Department of Veterans Affairs (VA) teleconference meeting of Oncology-C Subcommittee of the Joint Biomedical Laboratory Research and Development and Clinical Science Research and Development Services Scientific Merit Review Board (JBL/CS SMRB), which was published in the Federal Register on April 21, 2015, 80 FR 22266.

The meeting notice is amended to change the date of the meeting from June 3, 2015, at 1 p.m. to June 10, 2015, at 10 a.m. The meeting is closed to the public.

Dated: June 1, 2015.
Rebecca Schiller,
Advisory Committee Management Officer.

[FR Doc. 2015-13619 Filed 6-3-15; 8:45 am]

BILLING CODE 8320-01-P